DEPARTMENT OF COMMERCE

National Oceanic and Atmospheric Administration

RIN 0648-XF342

Endangered and Threatened Species; Take of Anadromous Fish

AGENCY: National Marine Fisheries Service (NMFS), National Oceanic and Atmospheric Administration (NOAA), Commerce.

ACTION: Notice of issuance of four ESA section 10(a)(1)(A) research/enhancement permits for take of threatened and endangered species.

SUMMARY: This notice advises the public that four direct take permits have been issued pursuant to section 10(a)(1)(A) for programs rearing and releasing spring Chinook salmon in the Methow River basin of Washington state (Columbia River basin). The permits are issued, for different aspects of the actions, to the Public Utility Districts of Grant, Chelan, and Douglas Counties, the Washington Department of Fish and Wildlife, the U.S. Fish and Wildlife Service, and the Yakama Nation.

DATES: The permits were issued on February 17, 2017, and February 21, 2017, subject to certain conditions set forth therein. Subsequent to issuance, the necessary countersignatures by the applicants were received. The permits expire on December 31, 2027.

ADDRESSES: Requests for copies of the decision documents or any of the other associated documents should be addressed to the NMFS Sustainable Fisheries Division, 1201 NE. Lloyd Blvd. #1100, Portland, OR 97232.

FOR FURTHER INFORMATION CONTACT: Emi Kondo at (503) 736-4739 or by email at emi.kondo@noaa.gov.

SUPPLEMENTARY INFORMATION: This notice is relevant to the following species and evolutionarily significant unit (ESU)/distinct population segment (DPS):

Chinook salmon (Oncorhynchus tshawytscha): Endangered, naturally produced Upper Columbia River (UCR) spring-run.

Steelhead (O. mykiss): Threatened, naturally produced and artificially propagated Upper Columbia River.

Dated: April 4, 2017.
Angela Somma,
Chief, Endangered Species Division, Office of Protected Resources, National Marine Fisheries Service.

[FR Doc. 2017-07066 Filed 4-7-17; 8:45 am]

BILLING CODE 3510-22-P